DEPARTMENT OF LABOR

Employment and Training Administration

[TA-W-85,236]

Stanley Furniture Young America, Including On-Site Leased Workers From Workforce Unlimited and Guardsmark LLC, Robbinsville, North Carolina; Amended Certification Regarding Eligibility To Apply for Worker Adjustment Assistance

In accordance with Section 223 of the Trade Act of 1974, as amended (“Act”), 19 U.S.C. 2273, the Department of Labor issued a Certification of Eligibility to Apply for Worker Adjustment Assistance on May 15, 2014, applicable to workers of Stanley Furniture Young America, including on-site leased workers from Workforce Unlimited, Robbinsville, North Carolina. The Department of Labor published the Notice of Determination in the Federal Register on June 4, 2014 (79 FR 32330).

At the request of a company official, the Department reviewed the certification for workers of the subject firm. The workers were engaged in activities related to the production of non-upholstered children's bedroom furniture.

The company reports that workers leased from Guardsmark LLC were on-site at the Robbinsville, North Carolina location of Stanley Furniture Young America. The Department has determined that these workers were sufficiently under the control of the subject firm to be considered leased workers.

Based on these findings, the Department is amending this certification to include workers leased from Guardsmark LLC working on-site at the Robbinsville, North Carolina location of Stanley Furniture Young America.

The amended notice applicable to TA-W-85,236 is hereby issued as follows:

All workers of Guardsmark LLC and Workforce Unlimited, reporting to Stanley Furniture Young America, Robbinsville, North Carolina who became totally or partially separated from employment on or after April 11, 2013 through May 15, 2016, and all workers in the group threatened with total or partial separation from employment on the date of certification through two years from the date of certification, are eligible to apply for adjustment assistance under Chapter 2 of Title II of the Trade Act of 1974, as amended.

Signed in Washington, DC, this 10th day of March, 2015.
Michael W. Jaffe,
Certifying Officer, Office of Trade Adjustment Assistance.

[FR Doc. 2015-06834 Filed 3-24-15; 8:45 am]

BILLING CODE 4510-FN-P